DEPARTMENT OF EDUCATION

Office of Elementary and Secondary Education

[CFDA No.: 84.350A]

Transition to Teaching Program; Notice Inviting Applications for New Awards for Fiscal Year (FY) 2002

Purposes of Program: The Transition to Teaching program supports the recruitment and retention of highly qualified mid-career professionals, school paraprofessionals, and recent college graduates as teachers in high-need schools, through use of existing, or development and enhancement of new, alternative routes to certification.

Eligible Applicants: A State educational agency (SEA); a high-need local educational agency (LEA); a for-profit or nonprofit organization with a proven record of effectively recruiting and retaining highly qualified teachers, in partnership with a high-need LEA or an SEA; an institution of higher education (IHE), in partnership with a high-need LEA or an SEA; a regional consortium of SEAs; or a consortium of high-need LEAs.

Application Available: June 17, 2002.

Deadline for Transmittal of Applications: August 1, 2002.

Deadline for Intergovernmental Review: September 30, 2002.

Estimated Available Funds: Approximately $35,000,000. The Department has established separate funding categories for projects of different scope. These categories are (1) national/regional projects, where placement of teachers would be in LEAs in more than one State; (2) statewide projects, where placement of teachers would be statewide or in LEAs scattered across a particular State; and (3) local projects, where placement of teachers would be in one LEA or in two or more LEAs located in close proximity to one another.

The estimated available funds for each category is as follows: National/regional projects: $7,750,000; Statewide projects: $15,000,000; Local projects: $12,500,000.

Funds available in future years depend on the level of Congressional appropriations.

Estimated Range of Awards: National/regional projects—$300,000-$1,200,000 per year; Statewide projects—$150,000-$600,000 per year; Local projects—$50,000-$400,000 per year.

Estimated Average Size of Awards: National/regional projects—$750,000 per year; Statewide projects—$375,000 per year; Local projects—$225,000 per year.

Estimated Number of Awards: National/regional grants—10; Statewide grants—37; Local grants—60.

Maximum Awards: The maximum award amounts are expected to be $1,200,000 per year for a National/Regional project, $600,000 per year for a Statewide project, or $400,000 per year for a Local project. Absent exceptional circumstances, the Department does not intend to make awards in excess of these amounts.

Note: The Department is not bound by any estimates in this notice.

Project Period: Up to 60 months.

Applicable Regulations: (a) The Education Department General Administrative Regulations (EDGAR) in 34 CFR part, 74, 75, 77, 79, 80, 82, 85, 86, 97, 98, and 99. (b) The special rules announced in this notice.

Page Limit. The application narrative is where applicants address the selection criteria that reviewers use to evaluate applications. Applicants must limit the narrative to the equivalent of no more than 50 pages, using the following standards:

• A page is 8.5″ x 11″, on one side only, with 1″ margins at the top, bottom and both sides.

• Double space (no more than three lines per vertical inch) all text in the application narrative, including titles, headings, footnotes, quotations, references, and captions, as well as all text in charts, tables, figures, and graphs.

• Use a font that is either 12-point or larger or no smaller than 10 pitch (characters per inch).

• For charts, tables, and graphs, also use a font that is either 12-point or larger or no smaller than 10-pitch. Reviewers will not read any pages of applications that—

• Exceed the page limit if one applies these standards; or

• Exceed the equivalent of the page limit if one applies other standards.

SUPPLEMENTARY INFORMATION: On January 8, 2002, President Bush signed the No Child Left Behind Act of 2001 (Pub. L. 107-110) (NCLB) into law. NCLB, which substantially revises the Elementary and Secondary Education Act of 1965 (ESEA), is intended to provide all of America's students with the opportunity and means to achieve academic success. It embodies the four key principles of the President's education reform plan: (1) Accountability for results, (2) expanded State and local flexibility and reduced “red tape,” (3) expanded choices for parents, and (4) focusing resources on proven educational methods.

These principles aim to produce fundamental reforms in classrooms throughout America. NCLB provides officials and educators at the school, school district, and State levels substantial flexibility to plan and implement school programs that will help close the achievement gap between disadvantaged and minority students and their peers. At the same time, the reauthorized Act holds school officials accountable—to parents, students, and the public—for achieving results. These and other major changes to the ESEA redefine the Federal role in K-12 education to focus on improving the academic performance of all students.

The full text of this law may be found on the Internet at: http://www.ed.gov/legislation/ESEA02/.

Ensuring that all students in this Nation succeed academically will require America's schools to hire and retain high-quality teachers as never before. Our responsibility to ensure that all students meet challenging content and performance standards, and ensure that no child is left behind, means that the 2.2 million teachers that our schools will need to hire over the next ten years will need to have thorough subject-matter knowledge of the areas they teach and effective teaching skills.

Yet many of our highest-need schools and LEAs are hard pressed to find enough well-qualified applicants, particularly in such fields as mathematics and science. As school enrollments continue to grow and retirements from the current teacher force increase, the Nation's teacher recruitment and preparation challenges will grow even more daunting.

Recognizing the importance of highly qualified teachers, Congress created in Title II of the ESEA a means for helping schools and LEAs to prepare, recruit, and retain highly qualified teachers and principals. The Transition to Teaching program is one of the components of Title II. It is designed to help the Nation's most severely pressed LEAs to supplement their efforts to secure highly qualified teachers by enabling those LEAs to hire and retain as teachers talented candidates from other professions and nontraditional backgrounds. The program does so by—

(1) Making use, or fostering the development and enhancement of, State-sanctioned alternative routes to teaching;

(2) Supporting both recruitment efforts to find teacher candidates from non-traditional backgrounds, and the financial incentives these candidates may need to make the career change into teaching;

(3) Helping these teacher candidates to gain State certification; and

(4) Making available quality mentoring and other follow-up support during these individuals' initial years in the classroom.

Priority

Under 34 CFR 75.105(c)(2)(i), the Department awards a competitive preference to an application that meets the following statutory priority:

Consistent with the statutory priority in ESEA section 2313(c), the Secretary awards five (5) additional points to a partnership or consortium that includes either a “high-need LEA” or a “high-need SEA.” See the “Definitions” section of this notice for the meaning of these terms.

Waiver of Proposed Rulemaking: It is the Secretary's practice, in accordance with the Administrative Procedure Act (5 U.S.C. 553), to offer interested parties the opportunity to comment on proposed rules and competitive preferences. Section 437(d)(1) of the General Education Provisions Act (GEPA), however, allows the Secretary to exempt from rulemaking requirements rules governing the first grant competition under a new or substantially revised program authority (20 U.S.C. 1232(d)(1)). The Secretary, in accordance with section 437(d)(1) of GEPA, has decided to forego public comment in order to ensure timely grant awards.

Requirements for FY 2002 Competition

Selection Criteria. The Secretary will use selection criteria in section 75.209 of EDGAR to evaluate each application. An applicant may earn up to 100 points on the basis of its response to these selection criteria. The general subject areas and the corresponding maximum number of points are:

Need for Project (10 points)

Quality of the Project Design (25 points)

Quality of Project Services (20 points)

Quality of Project Personnel (10 points)

Adequacy of Resources (10 points)

Quality of the Management Plan (10 points)

Quality of the Project Evaluation (15 points)

A full statement of the section criteria, and required application descriptions that must be provided in response to these criteria, is contained in the application package for this program.

Requirements For Application Content. ESEA section 2313(d)(2) identifies information that must be included in any application the Department would fund. As explained in the program's application package, we are requiring applicants to address this information in response to specific selection criteria.

Definitions. For purposes of the Transition to Teaching Program—

“High-need LEA” means an LEA that—

1. (a) Serves not fewer than 10,000 children from families with incomes below the poverty line, or (b) for which not less than 20 percent of the children served by the LEA are from families with incomes below the poverty line, and

2. For which there is (a) a high percentage of teachers not teaching in the academic subjects or grade levels the teachers were trained to teach, or (b) a high percentage of teachers with emergency, provisional, or temporary certification or licensing. See ESEA section 2102(3).

Applicants will need to include information in their applications that demonstrates that they, or the LEA(s) with which they will work, meet this definition.

Note: For purposes of the four elements of this statutory definition of high-need LEA:

1. (a) The total number of children in poverty, as referenced above, can be found on the Census Bureau Web site at: http://www.census.gov/housing/saipe/sd97/.

This site reports the number of children in poverty for every school district in the United States. Locate the file for your State's data, and find your LEA. The sixth column provides the number of children in poverty.

1. (b) LEA poverty rates referenced in 1(b) of the definition of high-need LEA can be accessed on the Department's Web site at the following address: www.ed.gov/offices/OESE/reap.html.

See at this address “Application Instructions” and find the appropriate spreadsheet for the “State” in which the LEA is located. Column 11 identifies the percentage of an LEA's children from families below the poverty line. These poverty rates are available for LEAs that are included in the National Center for Education Statistics (NCES) Common Core of Data (CCD).

An LEA not included in the CCD must provide other data, such as the adjusted poverty data that its State used to make its Title I allocations, to demonstrate its eligibility.

2. (a) The Department does not have available to it suitable data with which to define a “high percentage” of teachers not teaching in the academic subjects or grade levels the teachers were trained to teach. Therefore, to be eligible to receive an award, LEAs unable to meet the definition immediately below for “high percentage of teachers with emergency, provisional, or temporary certification or licensing” will need to demonstrate to the Department's satisfaction that they have a high percentage of teachers not teaching in the academic subjects or grade levels the teachers were trained to teach. The Department will review this aspect of the applications on a case-by-case basis.

2. (b) The best data available to the Department on the percentage of teachers with emergency, provisional, or temporary certification or licensing comes from the reports on the quality of teacher preparation that States provided to the Department in October 2001 under section 207 of the Higher Education Act (HEA). Specifically, States provided the percentage of teachers in their LEAs teaching on waivers, both on a statewide basis and in high-poverty LEAs. Based on data from these reports, the national average of teachers on waivers in high-poverty LEAs is 11 percent. The Secretary has determined that, for purposes of the definition of high-need LEA in section 2102, an LEA with at least 11 percent of its teachers teaching with emergency, provisional, or temporary certification or licensing, i.e., without an initial or more advanced State (or, where applicable, LEA) teaching certification or license, has a “high percentage” of these teachers and so meets the statutory definition.

“High-need SEA” means an SEA of a State in which at least one LEA is a high-need LEA.

Note: While the ESEA requires the Department to give priority to applications from a partnership or consortium that includes a “high-need LEA” or “high-need SEA,” the ESEA does not define the term “high-need SEA.” Our definition of this term enables all SEAs to be considered high-need SEAs. However, a few States provided in their October 2001 reports to the Department under section 207 of the HEA on the quality of teacher preparation that they had no individuals teaching on waivers. To be a high-need SEA, the SEA in these States would have to demonstrate that at least one LEA in the State (1) meets one of the poverty criteria in paragraph 1(b) of the definition of high-need LEA, and (2) has a high percentage of teachers not teaching in the academic subjects or grade levels the teachers were trained to teach (paragraph 2(a) of that definition.)

“High-need school” means a school that—

1. Is located in an area in which the percentage of students from families with incomes below the poverty line is 30 percent or more; or

2. Is—

(a) Located in an area with a high percentage of teachers who are teaching an academic subject or a grade level for which they are not highly qualified. (See ESEA section 9101(23) for the definition of “highly qualified”.)

(b) Within the top quartile of elementary schools and secondary schools statewide, as ranked by the number of unfilled, available teacher positions at the schools;

(c) Located in an area in which there is a high teacher turnover rate; or

(d) Located in an area in which there is a high percentage of teachers who are not certified or licensed.

Note: Program grantees are to define the elements of this statutory definition of “high-need school” in ways that reflect, as much as possible, the meanings of related elements in the definition of “high-need LEA.”

Final Project Year Activities. A recipient of a multiyear grant may use program funds to recruit several cohorts of eligible participants and have them hired as teachers in high-need schools of participating LEAs. However, in order to ensure that grantees (and the LEAs with which they partner) provide to all teachers recruited and hired through this program at least one year of intensive follow-up support in order adequately to train (and help to retain) these individuals as high-quality teachers, program funds may not be used to hire individuals as teachers after the end of the second to last project period. Therefore, a grantee that receives a five-year award (the maximum project period), for example, may not use program funds to recruit and hire teachers after the end of the 2005-06 school year.

Evaluation and Accountability. ESEA section 2314 requires grantees to submit to the Department and to the Congress interim and final reports at the end of the third and fifth years of the grant period, respectively. Subparagraph (b) of this section provides that these reports must contain the results of the grantee's interim and final evaluation, which must describe the extent to which high-need LEAs that received funds through the grant have met their goals relating to teacher recruitment and retention as described in the project application.

However, while each funded project must promote the recruitment and retention of new teachers in specific identified LEAs, because eligible grant recipients are not limited to LEAs it is possible that one or more funded projects will not provide funding to participating LEAs. In order that all project evaluations provide relevant information on the extent to which the project is meeting these LEA goals, the Department has determined that the interim and final evaluations must describe the extent to which LEAs that receive program funds or otherwise participate in funded projects have met their teacher recruitment and retention goals.

Limitation On Indirect Costs. The success of the Transition to Teaching Program will depend upon how well grantees and the high-need LEAs with whom they work recruit, hire, train, and retain highly qualified individuals from other professions and backgrounds to become teachers. If the program is to achieve its purpose, we need to ensure that the $35 million FY 2002 appropriation is used as effectively as possible. To do so, it is necessary to place a reasonable limitation on the amount of program funds that grant recipients may use to reimburse themselves for the “indirect costs” of program activities. Therefore, the Secretary has decided to establish a reasonable limit of eight percent on the indirect cost rate that all program recipients may charge to funds provided under this program.

For reasons we have offered in a limited number of other competitive grant programs that focus on improving teacher quality academically, we believe that a similar limitation on a recipient's indirect costs is necessary here to ensure that program funds are used to secure the school leaders that Congress had intended. See, e.g., the analyses of (1) 34 CFR section 611.61, as proposed, that govern the Teacher Quality Enhancement Grants program, authorized by Title II, Part A of the Higher Education Act (65 FR 6936, 6940 (February 11, 2000), and (2) requirements for the FY 2001 grants competition under the Transition to Teaching program authorized in the FY 2001 Department of Education Appropriations Act, Public Law 106-554 (66 FR 19673, 19676-77).

FOR APPLICATIONS CONTACT: Education Publications Center (ED Pubs), P.O. Box 1398, Jessup, MD 20794-1398. Telephone (toll free): 1-877-433-7827. FAX: (301) 470-1244. If you use a telecommunications device for the deaf (TDD) you may call (toll free): 1-877-576-7734.

You may also contact ED Pubs at its Web site: http://www.ed.gov/about/ordering.jsp.

Or you may contact ED Pubs at its e-mail address: edpubs@inet.ed.gov.

If you request an application from ED Pubs, be sure to identify this competition as follows: CFDA number 84.350A.

A copy of the application package also may be obtained electronically at the following Web site: http://www.ed.gov/GrantApps/.

FOR FURTHER INFORMATION CONTACT: Dr. Frances Yvonne Hicks, U.S. Department of Education, Office of Elementary and Secondary Education, 400 Maryland Avenue, SW, Room 3C153, Washington, DC 20202-6140. Telephone: 202 260-0964. Inquiries may also be sent by e-mail to: transitiontoteaching@ed.gov or by FAX to: (202) 205-5630.

If you use a telecommunications device for the deaf (TDD), you may call The Federal Information Relay Service (FIRS) at 1-800-877-8339.

Individuals with disabilities may obtain this document in an alternative format (e.g., Braille, large print, audiotape, or computer diskette) on request to the program contact person listed under FOR FURTHER INFORMATION CONTACT.

Individuals with disabilities may obtain a copy of the application package in an alternative format by contacting ED PUBS. However, the Department is not able to reproduce in an alternative format the standard forms included in the application package.

Electronic Access to This Document

You may view this document, as well as all other Department of Education documents published in the Federal Register, in text or Adobe Portable Document Format (PDF) on the Internet at the following site: www.ed.gov/legislation/FedRegister.

To use PDF you must have Adobe Acrobat Reader, which is available free at this site. If you have questions about using PDF, call the U.S. Government Printing Office (GPO, toll free, at 1-888-293-6498; or in the Washington, DC area at (202) 512-1530.

Note: The official version of this document is the document published in the Federal Register. Free Internet access to the official edition of the Federal Register and the Code of Federal Regulations is available on GPO access at: http://www.access.gpo.gov/nara/index.html.

Program Authority: 20 U.S.C. 6683.

Dated: June 12, 2002.
Susan B. Neuman,
Assistant Secretary for Elementary and Secondary Education.

[FR Doc. 02-15295 Filed 6-14-02; 8:45 am]

BILLING CODE 4000-01-P